DEPARTMENT OF THE INTERIOR

U.S. Geological Survey

Proposed Information Collection; Program Announcement for the Establishment of DOI Regional Climate Change Response Centers, National Climate Change and Wildlife Science Center

AGENCY: United States Geological Survey (USGS), Interior.

ACTION: Notice; request for comments.

SUMMARY: We (the U.S. Geological Survey) will ask the Office of Management and Budget (OMB) to approve the information collection (IC) described below. As required by the Paperwork Reduction Act of 1995, and as part of our continuing efforts to reduce paperwork and respondent burden, we invite the general public and other Federal agencies to take this opportunity to comment on this IC. We may not conduct or sponsor, and a person is not required to, respond to a collection of information unless it displays a currently valid OMB control number.

DATES: You must submit comments on or before January 19, 2010.

ADDRESSES: Please submit comments on this information collection directly to Phadrea Ponds, USGS Information Collection Clearance Officer, 2150-C Center Avenue, Fort Collins, CO 80525 (mail); (970) 226-9230 (fax); or pponds@usgs.gov (e-mail). Please reference Information Collection 1028-NEW, NCCSC in the subject line.

FOR FURTHER INFORMATION CONTACT: Nadine Hartke by mail at U. S. Geological Survey, MS 300 National Center, 12201 Sunrise Valley Drive, Reston, VA 20192, or by telephone at 703-648-4607.

SUPPLEMENTARY INFORMATION:

I. Abstract

The primary objective of the National Climate Change and Wildlife Science Center (NCCWSC) will be to assist the Department of the Interior (DOI) in establishing a network of geographically dispersed DOI Regional Climate Response Centers (Centers), as described in the Department of the Interior Secretarial Order 3289 (http://www.doi.gov/climatechange/index.html). These Centers will be co-located at cooperating organizations at non-USGS facilities. The Centers will include NCCWSC staff that report to a national USGS office, but will involve other DOI or collaborating Bureaus. The goal of the NCCWSC and the affiliated Regional Centers is to work in close partnership with the climate change science; ecological or hydrological science; and natural and cultural resource management communities to understand high priority science needs for climate adaptation and to develop science and information porducts that can help resource managers develop strategies for responding to climate change.

The purpose of this information collection is to identify institutions that are willing to host a Regional Center, and determine if their science and partnership capabilities are sufficient to serve as a host organization. Host organizations must be able to contribute climate science and ecological capabilities that complement and enhance USGS scientific and computational capacity, and those of other science partners. Host science collaborations and experience with regional national and cultural partnerships and communities will be a valuable and necessary component of serving as a host. The information collected will be used to establish DOI Regional Climate Change Response Centers through Cooperative Agreements with the host institution.

The National Climate Change and Wildlife Science Center will issue a Program Announcement that will request interested host institutions to submit proposals. Proposals will address the institution's current climate change science program, its existing linkages with USGS and other DOI bureaus, a description of linkages with potential Regional Center partners, and institution organization capabilities and contributions to serve as a host.

II. Data

OMB Control Number: None. This is a new collection.

Title: Establishment of DOI Regional Climate Change Response Centers, National Climate Change and Wildlife Science Center Program Announcement.

Respondent Obligation: Voluntary.

Frequency of Collection: Annually.

Estimated Annual Number of Respondents: 80. Respondents may include institutions of higher education and other non-profit organizations.

Estimated Total Annual Responses: 80.

Estimated Time per Response: 20 hours.

Estimated Total Annual Burden: 1,600 hours.

Estimated Annual Reporting and Recordkeeping “Hour” Burden: We estimate the public reporting will average 20 hours per response. This includes time to develop a technical proposal, budget sheets, perform internal proposal reviews, secure support letters, and submit the proposal through Grants.gov.

Estimated Annual Reporting and Recordkeeping “Non-Hour Cost”: There are no “non-hour cost” burdens associated with this collection of information.

III. Request for Comments

To comply with the public consultation process, we publish this Federal Register notice announcing that we will submit this ICR to OMB for approval. This notice provides the required 60-day public comment period. We invite comments concerning this ICR on: (a) Whether the proposed collection of information is necessary for the agency to perform its duties, including whether the information is useful; (b) the accuracy of the agency's estimate of the burden on the proposed collection of information; (c) ways to enhance the quality, usefulness, and clarity of the information to be collected; and (d) ways to minimize the burden on the respondents, including the use of automated collection techniques or other forms of information technology.

Comments that you submit in response to this notice are a matter of public record. Before including your address, phone number, e-mail address or other personal identifying information in your comment, you should be aware that your entire comment including your personal identifying information, may be made publically available at any time. While you can ask us in your comment to withhold your personal identifying information from public review, we cannot guarantee that we will be able to do so.

Dated: November 10, 2009.
Susan D. Haseltine,
Associate Director for Biology, U.S. Geological Survey.

[FR Doc. E9-27780 Filed 11-18-09; 8:45 am]

BILLING CODE 4311-AM-P